NUCLEAR REGULATORY COMMISSION

[Docket No. 040-08006]

Environmental Assessment and Finding of No Significant Impact for Kerr McGee Corporation's Request to Amend Source Materials License

I. Introduction

The U.S. Nuclear Regulatory Commission (NRC) is considering an amendment to Kerr McGee Corporation's Source Materials License SUB-986. The proposed amendment will approve the Derived Concentration Guideline Levels (DCGLs) and Decommissioning Plan (DP) with consideration of license termination for the Kerr McGee Technical Center located in Oklahoma City, Oklahoma. An Environmental Assessment (EA) was performed by the NRC staff in support of its review of Kerr McGee's license termination request, in accordance with the requirements of 10 CFR part 51. The conclusion of the EA is a Finding of No Significant Impact (FONSI) for the proposed licensing action.

II. Environmental Assessment

Background

This EA is being performed to evaluate the environmental impacts of the proposed amendment to Kerr McGee Corporation's Source Materials License SUB-986, to approve the DCGLs and the DP and subsequent termination of the source materials license for unrestricted release of facilities used under the license located at the Technical Center in Oklahoma City, Oklahoma. The license termination will be based upon NRC staff's approval of the licensee's Final Status Survey Report as required by the DP.

The Technical Center was established in 1963 to provide research and development for conducting chemical and radiochemical laboratory analysis. The primary use of the source material was for the development, testing and calibration of instruments used for the company's mineral prospecting business unit. At no time did the Technical Center engage in the degree of production activities associated with a fuel cycle facility.

The Kerr-McGee Corporation's NRC License SUB-986 is managed by Kerr-McGee Chemical, LLC, which operates the Technical Center to conduct research and development activities in support of its chemical facilities. In January 1999, the licensee determined it would no longer require source materials use authorizations, provided by NRC License SUB-986, to support any work. Additionally, the licensee had been notified by the Oklahoma Department of Transportation that the department would be expanding State Highway 74 and thus, would be expanding the existing right-of-way which may include the area where uranium calibration test pits, previously used under the license, were located.

The licensee has completed the remediation of the test pits with inspection oversight and confirmatory in-process surveys by the Region IV office of the NRC. The NRC staff conducted three inspections (ADAMS Accession Nos. ML011520263, ML023500440, ML030370529) and performed split sample analyses of the soils and surface water to assess the levels of contamination and subsequent remediation of the outdoor areas.

Identification of the Proposed Action

The proposed action is to issue a license amendment to Source Materials License SUB-986 for approval of the DP with proposed DCGLs that define the maximum amount of residual contamination in soils and building surfaces that would satisfy NRC's regulations in 10 CFR part 20, subpart E, “Radiological Criteria for License Termination.” Additional consideration for license termination of Source Materials License SUB-986 for unrestricted release of the site, is contingent on NRC staff's approval of the licensee's submittal of the final status survey report, as required by the DP.

Purpose and Need for the Proposed Action

The purpose of the proposed action is to terminate Source Materials License SUB-986 and release the site for unrestricted use in accordance with the radiological criteria for license termination in subpart E, 10 CFR part 20, “Radiological Criteria for License Termination.” The NRC is fulfilling its responsibility under the Atomic Energy Act to make a decision for the proposed license termination that ensures protection of the public health and safety and the environment.

Alternatives to the Proposed Action

Final approval for release of the site for unrestricted use would be contingent upon NRC staff's approval of the licensee's final status survey report. The no-action alternative would be to keep the facility on the license. Maintaining the areas under a license would provide, negligible, if any, environmental benefit, but would reduce options for future use of the property. Furthermore, this no-action alternative is not acceptable because it would conflict with NRC's requirement in 10 CFR 40.42, “Expiration and termination of licenses and decommissioning of sites and separate building or outdoor areas,” of timely remediation at facilities or outdoor areas that have ceased NRC licensed operations. Therefore, the no-action alternative is not considered to be reasonable and is not analyzed further in this EA.

The Affected Environment and Environmental Impacts

The facility consists of approximately 160 acres of land in which the facility buildings are located on approximately 10 acres of land with the rest of the land area consisting of grass fields or water, and not used for the facility's activities. Since the site would be surveyed and meet the NRC criteria for unrestricted use in accordance with 10 CFR part 20, the environmental impacts resulting from the release of this site for unrestricted use are expected to be insignificant. There are no additional activities which would result in cumulative impacts to the environment.

Agencies and Persons Contacted

The NRC staff has prepared this EA with input from the Oklahoma Natural Heritage Inventory by letter dated April 12, 2002, and the U.S. Fish and Wildlife Service by letter dated May 9, 2002, and documented that the proposed action will have no effect on listed species, wetlands or other important wildlife resources. By letter dated May 2, 2002, after reviewing the documentation concerning the referenced project in Oklahoma County, the Oklahoma Historical Society determined that there are no historic properties affected by the referenced project. In its letter dated April 11, 2002, the Oklahoma Archaeological Survey indicated that the referenced project has been reviewed and cross-checked with the state site files containing approximately 17,500 archaeological sites that are currently recorded in the State of Oklahoma and no sites are listed as occurring within the project area. Additionally, the Oklahoma Archaeological Survey indicated that based on the topographic and hydrological setting, no archaeological materials are likely to be encountered. A draft of this EA was provided to the State of Oklahoma for review. The State of Oklahoma is in agreement with the proposed action and had no additional comments.

References

NRC, “Radiological Criteria for License Termination,” 10 CFR part 20, subpart E, 62 FR 39088, July 28, 1997.

NRC, “NMSS Decommissioning Standard Review Plan, “NUREG-1727, August 1991.

NRC, “Multi-Agency Radiation Survey and Site Investigation Manual (MARSSIM),” NUREG-1575, December 1997.

NRC, “Consolidated NMSS Decommissioning Guidance,” NUREG-1757, Volume 1, September 2002.

NRC, Draft, “Environmental Review Guidance for Licensing Actions Associated with NMSS Programs,” NUREG-1748, September 2001.

NRC, Draft, “Manual for Conducting Radiological Survey in Support of License Termination,” NUREG/CR-5849, June 1992.

NRC, NMSS Decommissioning Standard Review Plan,” NUREG-1727, September 2000.

FR 1997, Radiological Criteria for License Termination, IV. Summary of Public Comments, Responses to Comments, and Changes from Proposed Rule, A.2.2.1, page 39061, Federal Register, Vol 62, Rules and Regulations, July 21, 1997.

FR 2001, Rules and Regulations, pages 55752-55753, Federal Register, Vol 66, No. 213, November 2, 2001.

Kerr-McGee Technical Center, “Revised Decommissioning Plan,” April 5, 2001 (ADAMS Accession Nos. ML011840119 and ML011840269).

Kerr-McGee Technical Center, “Responses to NRC Region IV Request for Information to Support the Environmental Assessment of Proposed Remediation Activities,” April 22, 2002 (ADAMS Accession No. ML021140360).

III. Finding of No Significant Impact

Based upon the environmental assessment, the staff concludes that the proposed action will not have a significant effect on the quality of the human environment. Accordingly the staff has determined that the preparation of an environmental impact statement is not warranted.

IV. Further Information

These references listed above may be examined and/or copied for a fee at the NRC's Public Document Room, located at One White Flint North, 11555 Rockville Pike, Rockville, MD 20852. The references and inspection reports with ADAMS accession numbers may also be viewed in the NRC's Electronic Public Document Reading Room at http://www.nrc.gov/reading-rm/adams.html. Any questions with respect to this action should be referred to D. Blair Spitzberg, Ph.D., Chief, Fuel Cycle and Decommissioning Branch, Division of Nuclear Materials Safety, Region IV, U.S. Nuclear Regulatory Commission, 611 Ryan Plaza Drive, Suite 400, Arlington, Texas, 76011-4005. Telephone: (817) 860-8191, FAX number (817) 860-8188.

Dated at Arlington, Texas, this 5th day of June 2003.
For the Nuclear Regulatory Commission.
D. Blair Spitzberg,
Chief, Fuel Cycle Decommissioning Branch, Division of Nuclear Materials Safety, Region IV.

[FR Doc. 03-14858 Filed 6-11-03; 8:45 am]

BILLING CODE 7590-01-P